DEPARTMENT OF HEALTH AND HUMAN SERVICES

National Institutes of Health

Center for Scientific Review; Amended Notice of Meeting

Notice is hereby given of a change in the meeting of the Center for Scientific Review Special Emphasis Panel, June 4, 2010, 2 p.m. to June 4, 2010, 6 p.m., Doubletree Hotel Chicago O'Hare Airport-Rosemont, 5460 North River Road, Rosemont, IL 60018 which was published in the Federal Register on May 11, 2010, 75 FR 26261-26262.

The meeting will be held at the Embassy Suites Chicago-O'Hare/Rosemont, 5500 North River Road, Rosemont, IL 60018. The meeting date and time remain the same. The meeting is closed to the public.

Dated: May 19, 2010.
Jennifer Spaeth,
Director, Office of Federal Advisory Committee Policy.

[FR Doc. 2010-12569 Filed 5-24-10; 8:45 am]

BILLING CODE 4140-01-P